COMMISSION ON CIVIL RIGHTS

Notice of Public Meeting of the Connecticut Advisory Committee to the U.S. Commission on Civil Rights

AGENCY: U.S. Commission on Civil Rights.

ACTION: Announcement of public meeting.

SUMMARY: Notice is hereby given, pursuant to the provisions of the rules and regulations of the U.S. Commission on Civil Rights (Commission) and the Federal Advisory Committee Act that the Connecticut Advisory Committee (Committee) to the U.S. Commission on Civil Rights will convene a briefing on Thursday, September 7, 2023, at 10:00 a.m. (ET), at the Legislative Office Building, Room 1C, 300 Capitol Avenue, Hartford, CT 06106. The purpose of the briefing is for the committee to hear from panelists on the topic of voting rights for incarcerated persons in Connecticut.

DATES: Thursday, September 7, 2023; 10:00 a.m. (ET).

ADDRESSES: Legislative Office Building, Room 1C, 300 Capitol Avenue, Hartford, CT 06106.

FOR FURTHER INFORMATION CONTACT: Barbara Delaviez, Designated Federal Official at bdelaviez@usccr.gov or 202-381-8915.

SUPPLEMENTARY INFORMATION: If other persons who plan to attend the meeting require other accommodations, please contact Evelyn Bohor at ebohor@usccr.gov at least ten (10) working days before the scheduled date of the meeting.

Time will be set aside at the end of the meeting so that members of the public may address the Committee after the briefing during the open comment session. This meeting is available to the public by attendance in person. Any interested member of the public may listen to the meeting. An open comment period will be provided to allow members of the public to make a statement as time allows.

Members of the public are entitled to make comments during the open period at the end of the meeting. Members of the public are entitled to submit written comments; the comments must be received in the regional office within 30 days following the meeting. Written comments may be emailed to Barbara Delaviez at bdelaviez@usccr.gov. Persons who desire additional information may contact the Regional Programs Coordination Unit at 1-312-353-8311. Records generated from this meeting may be inspected and reproduced at the Regional Programs Coordination Unit Office, as they become available, both before and after the meeting. Records of the meetings will be available via www.facadatabase.gov under the Commission on Civil Rights, Connecticut Advisory Committee link. Persons interested in the work of this Committee are directed to the Commission's website, http://www.usccr.gov, or may contact the Regional Programs Coordination Unit at ebohor@usccr.gov.

Agenda

I. Welcome and Roll Call

II. Briefing on Voting Rights for Incarcerated Persons in Connecticut

III. Public Comment

IV. Discuss Next Steps

V. Adjournment

Dated: August 18, 2023.
David Mussatt,
Supervisory Chief, Regional Programs Unit.

[FR Doc. 2023-18166 Filed 8-22-23; 8:45 am]

BILLING CODE P